ENVIRONMENTAL PROTECTION AGENCY

[EPA-HQ-OPP-2015-0769; FRL-9978-37]

Difenacoum; Notice of Receipt of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by the registrant to voluntarily cancel its registrations of products containing the pesticide difenacoum. The requests would terminate the last difenacoum products registered for use in the United States. EPA intends to grant these requests at the close of the comment period for this announcement unless the Agency receives substantive comments within the comment period that would merit its further review of the requests, or unless the registrant withdraws its requests. If these requests are granted, any sale, distribution, or use of products listed in this notice will be permitted after the registration has been cancelled only if such sale, distribution, or use is consistent with the terms as described in the final order.

DATES: Comments must be received on or before July 16, 2018.

ADDRESSES: Submit your comments, identified by docket identification (ID) number EPA-HQ-OPP-2015-0769, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Julie Javier, Pesticide Re-Evaluation Division (7508P), Office of Pesticide Programs, Environmental Protection Agency, 1200 Pennsylvania Ave. NW, Washington, DC 20460-0001; telephone number: (703) 347-0790; email address: javier.julie@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background on the Receipt of Requests To Cancel Registrations

This notice announces receipt by EPA of requests from registrant Woodstream Corporation to cancel all their difenacoum product registrations. Difenacoum is a second generation anticoagulant rodenticide used in and around homes, buildings, and in commercial transportation vehicles. It is formulated as ready-to-use pelleted bait to control rats and mice. In letters dated October 19, 2017 and April 4, 2018, Woodstream Corporation requested EPA to cancel the pesticide product registrations identified in Table 1 of Unit III. They also requested that the timeframe for the existing stocks provisions be two years from the date of the 90-day response to the GDCI, i.e., to October 18, 2019. (The 90-day response to the DCI is dated October 19, 2017, where the registrant requested to cancel EPA Registration Nos. 36488-66 and 47629-12. They followed this up with a request dated April 4, 2018, to cancel the rest of the registrations identified in Table 1 of Unit III.) The registrant does not expect any significant adverse effects to public health or the environment as a result. The registrant's request will terminate the last difenacoum products registered in the United States.

III. What action is the Agency taking?

This notice announces receipt by EPA of requests from a registrant to cancel all difenacoum product registrations. The affected products and the registrant making the requests are identified in Tables 1 and 2 of this unit.

Unless a request is withdrawn by the registrant or if the Agency determines that there are substantive comments that warrant further review of this request, EPA intends to issue an order canceling the affected registrations.

Table 1—Difenacoum Product Registrations With Pending Requests for Cancellation
Registration No. | Product name | Company
36488-63 | Difenacoum Rat and Mouse Block IV | Woodstream Corporation.
36488-64 | Difenacoum Rat and Mouse Place Packs IV | Woodstream Corporation.
36488-65 | Difenacoum Rat and Mouse Pellets IV | Woodstream Corporation.
36488-66 | Technical Difenacoum | Woodstream Corporation.
47629-12 | Difenacoum Technical | Woodstream Corporation.
47629-14 | Difenacoum Rat and Mouse Pellets | Woodstream Corporation.
47629-16 | Difenacoum Rat and Mouse Block | Woodstream Corporation.
47629-17 | Difenacoum Rat and Mouse Place Packs | Woodstream Corporation.

Table 2 of this unit includes the names and addresses of record for the registrant of the products listed in Table 1 of this unit, in sequence by EPA company number. This number corresponds to the first part of the EPA registration numbers of the products listed in Table 1 of this unit.

Table 2—Registrants Requesting Voluntary Cancellation and/or Amendments
EPA Company No. | Company name and address
36488 | Woodstream Corporation, 69 N Locust St., P.O. Box 327, Lititz, PA 17543.
47629 | Woodstream Corporation, 69 N Locust St., P.O. Box 327, Lititz, PA 17543.

IV. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

Since difenacoum is not registered for minor agricultural use, the provision for a 180-day comment period does not apply. Accordingly, EPA will provide a 30-day comment period on the proposed requests.

V. Procedures for Withdrawal of Requests

Registrants who choose to withdraw a request for product cancellation or use deletion should submit the withdrawal in writing to the person listed under FOR FURTHER INFORMATION CONTACT. If the products have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests for voluntary cancellation are granted, the Agency intends to publish the cancellation order in the Federal Register.

In any order issued in response to these requests for cancellation of product registrations, EPA proposes to include the following provisions for the treatment of any existing stocks of the products listed in Table 1 of Unit III.

For these voluntary product cancellations, the registrant will be permitted to sell and distribute existing stocks of voluntarily canceled products until October 18, 2019, which is two years from the date of the 90-day response to the GDCI, as requested by the registrant. Thereafter, the registrant will be prohibited from selling or distributing the products identified in Table 1 of Unit III., except for export consistent with FIFRA section 17 (7 U.S.C. 136o) or for proper disposal.

Persons other than the registrant may sell, distribute, or use existing stocks of canceled products until supplies are exhausted, provided that such sale, distribution, or use is consistent with the terms of the previously approved labeling on, or that accompanied, the canceled products.

Authority: 7 U.S.C. 136 et seq.

Dated: June 4, 2018.
Yu-Ting Guilaran,
Director, Pesticide Re-Evaluation Division, Office of Pesticide Programs.

[FR Doc. 2018-12815 Filed 6-13-18; 8:45 am]

BILLING CODE 6560-50-P